NUCLEAR REGULATORY COMMISSION

[Docket No. 40-1162; NRC-2010-0038]

Notice of Availability of Environmental Assessment and Finding of No Significant Impact for License Amendment for Revised Groundwater Protection Standards, Western Nuclear, Inc., Jeffrey City, WY

AGENCY: Nuclear Regulatory Commission.

ACTION: Notice of availability.

FOR FURTHER INFORMATION CONTACT: Richard Chang, Project Manager, Special Projects Branch, Division of Waste Management and Environmental Protection, Office of Federal and State Materials and Environmental Management Programs, U.S. Nuclear Regulatory Commission, Washington, DC 20555-0001. Telephone: (301) 415-7188; fax number: (301) 415-5369; e-mail: richard.chang@nrc.gov.

SUPPLEMENTARY INFORMATION:

I. Introduction

The U.S. Nuclear Regulatory Commission (NRC) is considering issuing a license amendment to Materials License No. SUA-56, held by Western Nuclear, Inc. (WNI), to authorize revised groundwater protection standards for its facility near Jeffrey City, Wyoming. On June 19, 1981, WNI announced that the facility would be placed on standby because of a diminishing demand for the ore and because of depressed uranium prices. The facility remained on standby until 1986 when the NRC staff amended the license to terminate the use of the tailings impoundments for disposal, and WNI was required to submit a tailings reclamation plan. On December 1, 2008, as supplemented by a February 7, 2009, submittal, WNI submitted a license amendment request for revised groundwater protection standards. On March 9, 2009, WNI submitted an additional amendment request for groundwater protection standards for other constituents. NRC staff sent a request for additional information on April 1, 2009, which WNI responded to on June 16, 2009. NRC has prepared an Environmental Assessment (EA) in support of this amendment request in accordance with the requirements of 10 CFR part 51. Based on the EA, the NRC has concluded that a Finding of No Significant Impact is appropriate. The amendment will be issued following the publication of this Notice.

II. EA Summary

The purpose of the proposed amendment is to authorize revised groundwater protection standards for the site. Specifically, WNI has requested that an alternate concentration limit (ACL) be set for selenium at the point of compliance wells equal to 0.05 mg/L. This requested selenium value is equal to the U.S. Environmental Protection Agency's (EPA's) maximum contaminant level (MCL) for selenium in drinking water. WNI has also requested that natural uranium trigger levels for licensee action at the point of exposure be set at background levels, specifically 0.087 mg/L for the Split Rock aquifer and 0.044 mg/L for the flood-plain aquifer. The request excludes one well (Well SWAB-32), where the existing standard will not change.

The NRC staff has prepared the EA in support of the proposed license amendment. The NRC staff considered impacts to groundwater, surface water, endangered and threatened species, historic and cultural resources, socioeconomic conditions, and transportation. This EA references previously approved ACLs, which were granted in 2006. The site currently has institutional controls in place limiting the domestic use of groundwater within the proposed long-term surveillance boundary. Because WNI is requesting a standard for selenium values at the points of compliance equal to EPA's MCL and the trigger levels for licensee action at the point of exposure for natural uranium at background levels, the staff does not expect the proposed action to significantly impact the following resource areas: groundwater, surface water, endangered and threatened species, historic and cultural resources, socioeconomic conditions, and transportation.

III. Finding of No Significant Impact

On the basis of the EA, NRC has concluded that there are no significant environmental impacts from the proposed amendment and has determined that there is no need to prepare an environmental impact statement.

IV. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are:

Document title | Date | Accession No.
Split Rock Uranium Mill Tailings Facility Proposed Amendments to LC 74 | December 1, 2008 | ML083380453
License Amendment Request for Western Nuclear, Inc., Source Materials License SUA-56 | February 7, 2009 | ML090430285
License Amendment Request for Western Nuclear, Inc., Source Materials License SUA-56 | March 9, 2009 | ML090750922
Request For Additional Information—Amendments To License Condition 74, Materials License SUA-56, Western Nuclear Inc., Split Rock Site, Jeffrey City, Wyoming | April 1, 2009 | ML090820330
Request for Additional Information—Amendments to L.C. 74, Materials License SUA056, Western Nuclear Inc., Split Rock Site | June 16, 2009 | ML091680563
Final Environmental Assessment | January 28, 2010 | ML092780271

If you do not have access to ADAMS or if there are problems in accessing the documents located in ADAMS, contact the NRC's Public Document Room (PDR) Reference staff at 1-800-397-4209, 301-415-4737, or by e-mail to pdr.resource@nrc.gov.

These documents may also be viewed electronically on the public computers located at the NRC's PDR, O1 F21, One White Flint North, 11555 Rockville Pike, Rockville, MD 20852. The PDR reproduction contractor will copy documents for a fee.

Dated at Rockville, Maryland, this 28th day of January, 2010.
For the Nuclear Regulatory Commission.
Keith I. McConnell,
Deputy Director, Decommissioning and Uranium Recovery Licensing Directorate, Division of Waste Management and Environmental Protection, Office of Federal and State Materials and Environmental Management Programs.

[FR Doc. 2010-2548 Filed 2-4-10; 8:45 am]

BILLING CODE 7590-01-P